DEPARTMENT OF LABOR

Employment and Training Administration

[TA-W-65,218]

D/E Associates, Shamokin, PA; Notice of Termination of Investigation

Pursuant to Section 221 of the Trade Act of 1974, as amended, an investigation was initiated on February 11, 2009 in response to a petition filed by a company official on behalf of workers of D/E Associates, Inc., Shamokin, Pennsylvania.

The petitioner has requested that the petition be withdrawn. Consequently, the investigation has been terminated.

Signed at Washington, DC, this 12th day of March 2009.
Linda G. Poole,
Certifying Officer, Division of Trade Adjustment Assistance.

[FR Doc. E9-6530 Filed 3-24-09; 8:45 am]

BILLING CODE 4510-FN-P